DEPARTMENT OF COMMERCE

National Oceanic and Atmospheric Administration

[I.D. 011003D]

Pacific Fishery Management Council; Coastal Pelagic Species Management Team Work Session Focused on Pacific Sardine Allocation.

AGENCY: National Marine Fisheries Service (NMFS), National Oceanic and Atmospheric Administration (NOAA), Commerce.

ACTION: Notice of public meeting.

SUMMARY: The Pacific Fishery Management Council's (Council) Coastal Pelagic Species Management Team (CPSMT) will hold a public work session.

DATES: The CPSMT will meet Thursday, January 30, 2003, from 8 a.m. to 5 p.m. and Friday, January 31, 2003, from 8 a.m. until business for the day is completed.

ADDRESSES: The work session will be held in the large conference room (D-203) at NMFS Southwest Fisheries Science Center, 8604 La Jolla Shores Drive, La Jolla, CA 92037; (858) 546-7000.

Council address: Pacific Fishery Management Council, 7700 NE Ambassador Place, Suite 200, Portland, OR 97220-1384.

FOR FURTHER INFORMATION CONTACT: Mr. Dan Waldeck, Pacific Fishery Management Council, (503) 820-2280.

SUPPLEMENTARY INFORMATION: The purpose of the CPSMT meeting is to develop and review preliminary analyses of management alternatives for revising the CPS fishery management plan's (FMP) annual Pacific sardine allocation framework. Possible management alternatives include:

1. Status quo - 33 percent of the harvest guideline allotted to the northern subarea and 66 percent to the southern subarea, with reallocation nine months after the start of the fishery. (See the CPS FMP for a complete description of the current Pacific sardine allocation framework).

2. No allocation - institute a coastwide harvest guideline.

3. Move northern boundary of southern subarea from 35° 40' to 39° N latitude, change reallocation date from October 1 to September 1 (or August 1), and provide for a December 1 reallocation to a coastwide harvest guideline.

4. Change reallocation date from October 1 to September 1 (or August 1), and provide for a December 1 reallocation to a coastwide harvest guideline.

Alternatives 3 and 4 include allocation percentage sub- alternatives:

a. 33 percent to the north, 66 percent to the south.

b. 50 percent to the north, 50 percent to the south.

This is a public meeting, and time for public comment will be provided at the discretion of the CPSMT chair. Generally, a public comment period will be provided just prior to the end of each day. Please note, this is not a public hearing, it is a work session devoted to completing preliminary analyses for Council consideration at the March 2003 Council meeting.

Although nonemergency issues not contained in the CPSMT meeting agenda may come before the CPSMT for discussion, those issues may not be the subject of formal action during this meeting. Action will be restricted to those issues specifically listed in this document and any issues arising after publication of this document that require emergency action under section 305(c) of the Magnuson-Stevens Fishery Conservation and Management Act, provided the public has been notified of the CPSMT's intent to take final action to address the emergency.

Special Accommodations

The meeting is physically accessible to people with disabilities. Requests for sign language interpretation or other auxiliary aids should be directed to Ms. Carolyn Porter at (503) 820-2280 at least 5 days prior to the meeting date.

Dated: January 13, 2003.
Richard W. Surdi,
Acting Director, Office of Sustainable Fisheries, National Marine Fisheries Service.

[FR Doc. 03-1015 Filed 1-15-03; 8:45 am]

BILLING CODE 3510-22-S